DEPARTMENT OF JUSTICE

Antitrust Division

Notice Pursuant to the National Cooperative Research and Production Act of 1993—Medical CBRN Defense Consortium

Notice is hereby given that, on October 16, 2018, pursuant to Section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, Allegheny-Singer Research Institute DBA AHN Institute, Pittsburgh, PA; Allotropic Tech, Halethorpe, MD; ASELL LLC, Owings Mills, MD; Clear Scientific LLC, Cambridge, MA; FLIR Detection, Inc., Stillwater, OK; FORGE Life Sciences, LLC, Doylestown, PA; IDBiologics, Inc., Nashville, TN; ImmPORT Therapeutics Inc. DBA Antigen Discovery Inc., Irvine, CA; Polo Custom Products, Topeka, KS; SIGA Technologies, Inc., New York, NY; The Albert Sabin Vaccine Institute, Inc. DBA Sabin Vaccine Institute, Washington, DC; VenatoRx Pharmaceuticals, Inc., Malvern, PA; and Windgap Medical, Inc., Watertown, MA, have been added as parties to this venture.

Also, Artificial Cell Technologies, Inc., New Haven, CT; Celdara Medical, LLC, Lebanon, NH; HORIBA Instruments, Inc., Edison, NY; Macromoltek, Austin, TX; Philips Healthcare, Andover, MA; Phosphorex Inc., Hopkinton, MA; PPD Development LP, Wilmington, NC; Sequoia Consulting Group, LLC, Lake Forest, CA; and University of Tennessee, Knoxville, Knoxville, TN, have withdrawn as parties to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on August 3, 2018. A notice was published in the Federal Register pursuant to Section 6(b) of the Act on August 24, 2018 (83 FR 42940).

Suzanne Morris,
Chief, Premerger and Division Statistics Unit, Antitrust Division.

[FR Doc. 2018-24335 Filed 11-6-18; 8:45 am]

BILLING CODE 4410-11-P